DEPARTMENT OF LABOR

Employment and Training Administration

[TA-W-39,042, et al.]

Agilent Technologies, Inc. Basic Electronics Systems, & Test Unit Including Temporary Workers of Staff Mark Loveland, Colorado, et al.; Amended Certification Regarding Eligibility To Apply for Worker Adjustment Assistance

In accordance with section 223 of the Trade Act of 1974 (19 U.S.C. 2273) the Department of Labor issued a Certification of Eligibility to Apply for Worker Adjustment Assistance on May 25, 2001, applicable to workers of Agilent Technologies, Inc., Basic Electronics Systems & Test Unit, Loveland, Colorado, Agilent Technologies, Inc., Design Validation Unit, Colorado Springs, Colorado and Agilent Technologies, Inc., Network System and Test Division, Colorado Springs, Colorado. The notice was published in the Federal Register on June 14, 2001 (66 FR 32389).

At the request of the State agency, the Department reviewed the certification for workers of the subject firm. New information provided by the State agency shows that some employees of Agilent Technologies, Inc., Basic Electronic Systems & Test Unit, Loveland, Colorado were temporary workers from Staff Mark employed to produce volt meters and bench-top instruments at the Loveland, Colorado location of the subject firm.

Information also shows that some employees of Agilent Technologies, Inc., Design Validation Unit and the Network System & Test Division, Colorado Springs, Colorado were temporary workers from Volt Technical Services to produce oscilloscopes and logic analyzers; and, test equipment to telecommunications applications respectively at the Colorado Springs, Colorado locations of the subject firm.

Accordingly, the Department is amending the certification to properly reflect this matter.

The intent of the Department's certification is to include all workers of Agilent Technologies, Inc., Basic Electronics Systems & Test Unit, Loveland, Colorado; and, Agilent Technologies, Inc., Design Validation Unit and the Network System & Test Division, Colorado Springs, Colorado, adversely affected by increased imports.

The amended notice applicable to TA-W-39,042, TA-W-39,042A and TA-W-39,042B are hereby issued as follows:

All workers of Agilent Technologies, Inc., Basic Electronics Systems & Test Unit, including temporary workers of Staff Mark, Loveland, Colorado, who were engaged in the production of volt meters and bench-top instruments at Agilent Technologies, Basic Electronics Systems & Test Unit, Loveland, Colorado (TA-W-39,042); and, all workers of Agilent Technologies, Design Validation Unit, including temporary workers of Volt Technical Services, Colorado Springs, Colorado, who were engaged in the production of oscilloscopes and logic analyzers at Agilent Technologies, Design Validation Unit, Colorado Springs, Colorado (TA-W-39,042A); and, all workers of Agilent Technologies, Network Systems & Test Division, including temporary workers of Volt Technical Services, Colorado Springs, Colorado, who were engaged in the production of test equipment for telecommunications applications at Agilent Technologies, Network Systems & Test Division, Colorado Springs, Colorado (TA-W-39,042B), who became totally or partially separated from employment on or after March 30, 2000, through May 25, 2003, are eligible to apply for adjustment assistance under Section 223 of the Trade Act of 1974.

Signed at Washington, DC this 3rd day of August, 2001.
Linda G. Poole,
Certifying Officer, Division of Trade Adjustment Assistance.

[FR Doc. 01-20541 Filed 8-14-01; 8:45 am]

BILLING CODE 4510-30-M